DEPARTMENT OF HOMELAND SECURITY

Coast Guard

33 CFR Part 100

[Docket No. USCG-2019-0313]

Special Local Regulation; Recurring Events in Captain of the Port Duluth Zone—Washburn Board Across the Bay

AGENCY: Coast Guard, DHS.

ACTION: Notice of enforcement of regulation.

SUMMARY: The Coast Guard will enforce the special local regulation for the Washburn Board Across the Bay event in Washburn, WI from 7:30 a.m. through 12:30 p.m. on July 27, 2019. This action is necessary to protect participants and spectators during the Board Across the Bay event. During the enforcement period, vessels transiting within the regulated area shall travel at a no-wake speed except as may be permitted by the Captain of the Port Duluth or a designated on-scene representative. Additionally, vessels shall yield right-of-way for event participants and event safety craft and shall follow directions given by event representatives during the event.

DATES: The regulations in 33 CFR 100.169 will be enforced from 7:30 a.m. through 12:30 p.m. on July 27, 2019.

FOR FURTHER INFORMATION CONTACT: If you have questions on this document, call or email LT Abbie Lyons, Chief of Waterways Management, Coast Guard; telephone (218) 725-3818, email DuluthWWM@uscg.mil.

SUPPLEMENTARY INFORMATION: The Coast Guard will enforce the special local regulation for the annual Washburn Board Across the Bay event in 33 CFR 100.169 from 7:30 a.m. through 12:30 p.m. on July 27, 2019 on all waters of the Chequamegon Bay within 100 yards of either side of an imaginary line beginning in Washburn, WI at position 46°36′52″ N, 090°54′24″ W; thence southwest to position 46°38′44″ N, 090°54′50″ W; thence southeast to position 46°37′02″ N, 090°50′20″ W; and ending southwest at position 46°36′12″ N, 090°51′51″ W.

Vessels transiting within the regulated area shall travel at a no-wake speed except as may be permitted by the Captain of the Port Duluth or a designated on-scene representative. Additionally, vessels shall yield right-of-way for event participants and event safety craft and shall follow directions given by event representatives during the event.

This document is issued under authority of 33 CFR 100.169 and 5 U.S.C. 552(a). In addition to this publication in the Federal Register, the Coast Guard will provide the maritime community with advance notification of the enforcement of this safety zone via Broadcast Notice to Mariners. The Captain of the Port Duluth or their on-scene representative may be contacted via VHF Channel 16 or at (218) 428-9357.

Dated: May 2, 2019.
E. E. Williams,
Commander, U.S. Coast Guard, Captain of the Port.

[FR Doc. 2019-09410 Filed 5-7-19; 8:45 am]

BILLING CODE 9110-04-P